DEPARTMENT OF EDUCATION

[CFDA Nos. 84.007, 84.032, 84.033, 84.038, 84.063, 84.069, 84.268, 84.375, and 84.376]

Student Assistance General Provisions, Federal Supplemental Educational Opportunity Grant, Federal Family Education Loan, Federal Work-Study, Federal Perkins Loan, Federal Pell Grant, Leveraging Educational Assistance Partnership, William D. Ford Federal Direct Loan, Academic Competitiveness Grant, and National Science and Mathematics Access To Retain Talent Grant Programs

ACTION: Notice of deadline dates for receipt of applications, reports, and other records for the 2007-2008 award year.

SUMMARY: The Secretary announces deadline dates for the receipt of documents and other information from institutions and applicants for the Federal student aid programs authorized under Title IV of the Higher Education Act of 1965, as amended, for the 2007-2008 award year. The Federal student aid programs include the Federal Supplemental Educational Opportunity Grant, Federal Family Education Loan, Federal Work-Study, Federal Perkins Loan, Federal Pell Grant, Leveraging Educational Assistance Partnership, William D. Ford Federal Direct Loan, Academic Competitiveness Grant (ACG), and National Science and Mathematics Access to Retain Talent Grant (National SMART Grant) programs.

These programs, administered by the U.S. Department of Education (Department), provide financial assistance to students attending eligible postsecondary educational institutions to help them pay their educational costs.

Deadline and Submission Dates: See Tables A and B at the end of this notice.

Table A—Deadline Dates for Application Processing and Receipt of Student Aid Reports (SARs) or Institutional Student Information Records (ISIRs) by Institutions

Table A provides information and deadline dates for application processing, including receipt of the Free Application for Federal Student Aid (FAFSA) and corrections to and signatures for the FAFSA, submission and receipt of SARS and ISIRS, and submission and receipt of verification documents.

The single date for the receipt of a FAFSA is June 30, 2008, regardless of the method that the applicant uses to submit the FAFSA. The deadline date for the submission and receipt of a signature page for the FAFSA (if required), corrections, changes of addresses or schools, or requests for a duplicate SAR is September 22, 2008. Verification documents must be submitted and received no later than the earlier of 120 days after the student's last date of enrollment or September 29, 2008.

SARS and ISIRS with an official expected family contribution for all Federal student aid programs except Parent PLUS must be submitted and received no later than the earlier of the student's last date of enrollment or September 29, 2008. A valid SAR or valid ISIR for a student not meeting the conditions for a late disbursement for purposes only of the Federal Pell Grant, ACG, or National SMART Grant programs must be submitted and received no later than the earlier of the student's last date of enrollment or September 29, 2008. A valid SAR or valid ISIR for a student meeting the conditions for a late disbursement under the Federal Pell Grant, ACG, or National SMART Grant programs must be submitted and received according to the deadline dates provided below.

Under the current provisions of 34 CFR 668.164(g)(4)(i), an institution may make a late disbursement for a student no later than 120 days after the date of the institution's determination that the student withdrew or, for a student who did not withdraw, 120 days after the date the student otherwise became ineligible. Under the current regulations, on an exception basis, we may approve a late disbursement after the 120-day period if the reason that the late disbursement was not made within that 120-day period was not the fault of the student. The valid SAR or valid ISIR for a student meeting the conditions for a late disbursement under the Federal Pell Grant, ACG, or National SMART Grant programs must be submitted and received no later than the earlier of the timeframes provided in 34 CFR 668.164(g)(4)(i) or September 29, 2008.

On November 1, 2007, we published final regulations in the Federal Register (72 FR 62014, 62029) that among other things amended 34 CFR 668.164(g)(4)(i) regarding late disbursements. Amended 34 CFR 668.164(g)(4)(i) is effective July 1, 2008, unless an institution chooses to implement this amended provision earlier than July 1, 2008. Amended 34 CFR 668.164(g)(4)(i) provides that an institution may not make a late disbursement later than 180 days after the date of the institution's determination that the student withdrew or, for a student who did not withdraw, 180 days after the date the student otherwise became ineligible. The amended regulations do not provide for an extension to this 180-day period.

If an institution chooses to implement the amended provisions earlier than July 1, 2008, we are providing in Table A that an institution must receive a valid SAR or valid ISIR no later than 180 days after its determination of a student's withdrawal or, for a student who did not withdraw, 180 days after the date the student otherwise became ineligible, but not later than September 29, 2008.

We will not accept a request for an extension of the 120-day period under the current regulations after June 30, 2008.

Table B—Federal Pell Grant, ACG, and National SMART Grant Programs Submission Dates for Disbursement Information by Institutions

Table B provides the earliest submission and deadline dates for institutions to submit Federal Pell Grant, ACG, and National SMART Grant disbursement records to the Department's Common Origination and Disbursement (COD) System and deadline dates for requests for administrative relief if the institution cannot meet the established deadline for specified reasons.

In general, an institution must submit Federal Pell Grant, ACG, or National SMART Grant disbursement records no later than 30 days after making a Federal Pell Grant, ACG, or National SMART Grant disbursement or becoming aware of the need to adjust a student's previously reported Federal Pell Grant, ACG, or National SMART Grant disbursement. In accordance with the regulations in 34 CFR 668.164, we consider that Federal Pell Grant, ACG, and National SMART Grant funds are disbursed on the date that the institution: (a) Credits those funds to a student's account in the institution's general ledger or any subledger of the general ledger, or (b) pays those funds to a student directly. We consider that Federal Pell Grant, ACG, and National SMART Grant funds are disbursed even if an institution uses its own funds in advance of receiving program funds from the Department. An institution's failure to submit disbursement records within the required 30-day timeframe may result in an audit or program review finding. In addition, the Secretary may initiate an adverse action, such as a fine or other penalty for such failure.

Other Sources for Detailed Information

We publish a detailed discussion of the Federal student aid application process in the following publications:

• 2007-2008 Funding Education Beyond High School.

• 2007-2008 Counselors and Mentors Handbook.

• 2007-2008 ISIR Guide.

• 2007-2008 Federal Student Aid Handbook.

Additional information on the institutional reporting requirements for the Federal Pell Grant, ACG, and National SMART Grant programs is contained in the 2007-2008 Common Origination and Disbursement (COD) Technical Reference. You may access this reference by selecting “Software Technical References” under the heading “Publications” at the Information for Financial Aid Professionals Web site at: http://www.ifap.ed.gov.

Applicable Regulations: The following regulations apply: (1) Student Assistance General Provisions, 34 CFR part 668, (2) Federal Pell Grant Program, 34 CFR part 690, and (3) Academic Competitiveness Grant and National Science and Mathematics Access To Retain Talent Grant Programs, 34 CFR part 691.

FOR FURTHER INFORMATION CONTACT: Harold McCullough, U.S. Department of Education, Federal Student Aid, 830 First Street, NE., Union Center Plaza, Room 113E1, Washington, DC 20202-5345. Telephone: (202) 377-4030.

If you use a telecommunications device for the deaf (TDD), you may call the Federal Relay Service (FRS) at 1-800-877-8339.

Individuals with disabilities may obtain this document in an alternative format (e.g., Braille, large print, audiotape, or computer diskette) on request to the program contact person listed under FOR FURTHER INFORMATION CONTACT.

Electronic Access to This Document

You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in PDF at the following site: http://www.ifap.ed.gov.

Note: The official version of this document is the document published in the Federal Register. Free Internet access to the official edition of the Federal Register and the Code of Federal Regulations is available on GPO Access at: http://www.gpoaccess.gov/nara/index.html.

Program Authority: 20 U.S.C. 1070a, 1070a-1, 1070b-1070b-4, 1070c-1070c-4, 1071-1087-2, 1087a-1087j, and 1087aa-1087ii; 42 U.S.C. 2751-2756b.

Dated: June 3, 2008.
Lawrence A. Warder,
Acting Chief Operating Officer, Federal Student Aid.

BILLING CODE 4000-01-P

[FR Doc. E8-12865 Filed 6-6-08; 8:45 am]

BILLING CODE 4000-01-C